DEPARTMENT OF THE INTERIOR

Office of the Secretary

[15XD0120AF: DT10110000: DST000000.54A00: 252R]

Request for Nominations To Serve on the Special Trustee Advisory Board

AGENCY: Office of the Secretary, Office of the Special Trustee for American Indians, Interior.

ACTION: Request for nominations.

SUMMARY: The Special Trustee for American Indians requests nominations of candidates to serve on the Special Trustee Advisory Board (Advisory Board). The Advisory Board provides advice on all matters within the jurisdiction of the Special Trustee and consists of nine members.

DATES: Submit nominations by December 29, 2014.

ADDRESSES: Submit nominations to Office of the Special Trustee for American Indians, Attn: Lee Frazier, Department of the Interior, 1849 C Street NW., Room 3253, Washington, DC 20240.

FOR FURTHER INFORMATION CONTACT: Lee Frazier, Office of the Special Trustee for American Indians, lee_frazier@ost.doi.gov, (202) 208-7587.

SUPPLEMENTARY INFORMATION: Pursuant to 25 U.S.C. 4046, the Special Trustee for American Indians requests nominations of candidates to serve on the Special Trustee Advisory Board.

The Advisory Board, which provides advice on all matters within the jurisdiction of the Special Trustee, consists of nine members with the following qualifications:

(1) Five members represent trust fund account holders, including both tribal and Individual Indian Money accounts;

(2) Two members must have practical experience in trust fund and financial management;

(3) One member must have practical experience in fiduciary investment management; and

(4) One member, from academia, must have knowledge of general management of large organizations.

Board members receive no compensation and serve a term of two years. Nominations should include a resume or other documents demonstrating the nominee's qualifications for at least one of the board member categories as described in this notice.

The Advisory Board is not subject to the Federal Advisory Committee Act (FACA).

Vincent G. Logan,
Special Trustee for American Indians.

[FR Doc. 2014-28139 Filed 11-26-14; 8:45 am]

BILLING CODE 4310-2W-P